DEPARTMENT OF THE INTERIOR

Bureau of Land Management

DEPARTMENT OF AGRICULTURE

Forest Service

[LLOR930000.L51010000.ER0000. LVRWH09H0320.14XL5017AP; HAG14-0178]

Notice of Availability of the Jordan Cove Energy and Pacific Connector Gas Pipeline Projects Draft Environmental Impact Statement and the Draft Associated Land Management Plan Amendments

AGENCY: Bureau of Land Management, Interior; Forest Service, USDA.

ACTION: Notice of Availability.

SUMMARY: In accordance with the National Environmental Policy Act of 1969 (NEPA), as amended; the Federal Land Policy and Management Act of 1976, as amended; and the National Forest Management Act of 1976, as amended (NFMA), the Bureau of Land Management (BLM) and the U.S. Forest Service (USFS) have participated as Cooperating Agencies with the Federal Energy Regulatory Commission (FERC) in the preparation of the Jordan Cove Energy and Pacific Connector Pipeline (PCGP) Projects Draft Environmental Impact Statement (EIS). The Draft EIS addresses the impacts of these projects, the associated draft Land Management Plan (LMP) amendments of the BLM and the USFS, and the application to the BLM for a Right-of-Way Grant sought by Pacific Connector Gas Pipeline LP for the PCGP project. With this agency-specific Notice of Availability, the BLM and the USFS are announcing the opening of the FERC comment period.

DATES: To ensure that comments will be considered, the FERC must receive written comments on the draft Jordan Cove Energy and PCGP Projects Draft EIS within 90 days following the date the Environmental Protection Agency published its Notice of Availability (NOA) in the Federal Register, which occurred on November 17, 2014. The FERC will announce future meetings or hearings and any other public involvement activities at least 15 days in advance through public notices, media releases, and/or mailings.

ADDRESSES: You may submit comments related to the Jordan Cove Energy and PCGP Projects Draft EIS by any of the following methods:

Web site: www.ferc.gov under the Documents and Filings link. The eComment tool is limited to text-only comments on the project. The eFiling tool allows users to submit files in a variety of formats. First-time users of eFiling must first create an account using eRegister.

Mail: Kimberley D. Bose, Secretary, Federal Energy Regulatory Commission, 888 First Street NE., Room 1A, Washington, DC 20426

Your comments must reference the FERC Docket number(s) (Jordan Cove Energy Project, L.P., Docket No. CP13-483-000 and/or Pacific Connector Gas Pipeline Project, L.P., Docket No. CP13-492-000) to be correctly attributed to this specific project.

Copies of the Jordan Cove Energy and PCGP Projects Draft EIS are available for inspection in the BLM district offices and the offices of the Forest Supervisors listed under SUPPLEMENTARY INFORMATION.

FOR FURTHER INFORMATION CONTACT: Additional information about the projects is available from the FERC's Office of External Affairs at 866-208-FERC (3372), or on the FERC Web site (www.ferc.gov). On the FERC Web site, go to Documents and Filings and click on the eLibrary link. Then click on “General Search” and enter the docket number, excluding the last three digits in the field (i.e., CP13-492). For assistance, please contact FERC Online Support at FercOnlineSupport@ferc.gov, or toll free at 866-208-3676, or for TTY, contact 202-502-8659. The eLibrary link also provides access to the texts of formal documents issues by the FERC such as orders, notices, and rulemakings.

SUPPLEMENTARY INFORMATION: This NOA is specific to the BLM and the USFS and provides notice that these agencies have participated as cooperating agencies with FERC in the preparation of the Jordan Cove Energy and PCGP Projects Draft EIS. The comprehensive Draft EIS includes consideration of the proposed actions of the FERC and the cooperating agencies, including a BLM right-of-way grant and the associated BLM and USFS LMP amendments. Following issuance of a FERC-prepared Final EIS, the Bureau of Reclamation and the USFS will determine whether to provide letters of concurrence to the BLM with regard to the issuance of a right-of-way-grant. Through this concurrence process, the Bureau of Reclamation and USFS will submit to the BLM any specific stipulations applicable to lands, facilities, water bodies, and easements for inclusion in the right-of-way grant.

In order for these potential actions to be consistent with the respective BLM Resource Management Plans (RMP) and USFS Land and Resource Management Plans (LRMP), collectively referred to asLMP, a number of amendments to these LMPs would be required prior to authorization of a Right-of-Way Grant for the PCGP Project. The proposed action described in the FERC Draft EIS includes a number of amendments to the BLM and USFS LMPs for the BLM's Coos Bay, Roseburg, and Medford Districts and the Klamath Falls Resource Area of the Lakeview District and the Umpqua, Rogue River, and Winema National Forests. In addition, the proposed action in the Draft EIS includes the Right-of-Way Grant across Federal lands managed by the BLM, USFS, and Bureau of Reclamation.

The FERC is the NEPA Lead Federal Agency for the environmental analysis of the construction and operation of the proposed Jordan Cove Energy and PCGP Projects. The BLM, the Bureau of Reclamation, and the USFS are cooperating agencies with the FERC for the preparation of the FERC Draft EIS.

The BLM's identified Purpose and Need for the proposed action is to respond to a right-of-way grant application submitted by the applicant to the BLM on February 25, 2013, to construct, operate, maintain, and eventually decommission a 234-mile-long, 36-inch-diameter, high-pressure natural gas pipeline between the proposed Jordan Cove Liquefied Natural Gas terminal in Coos Bay, Oregon, and the Malin Hub, where several interstate natural gas pipelines converge near Malin, Oregon. The Secretary of the Interior has delegated authority to the BLM to grant a right-of-way in response to the PCGP application for natural gas transmission on Federal lands under the Mineral Leasing Act of 1920. Before issuing the right-of-way grant, the BLM will acquire the written concurrence of the surface managing Federal agencies. In addition, there is a need for the BLM and the USFS to amend affected LMPs. Although the Bureau of Reclamation has facilities that would be affected by the PCGP, it has not identified any agency-specific actions for analysis in the Draft EIS.

In accordance with 36 CFR 219.17(b)(2), the Deciding Official for the USFS has elected to use the 1982 planning rule procedures to amend U.S. Forest Service LRMPs as provided in the transition procedures of the 2000 planning rule. The 1982 planning rule procedures require the USFS to determine the significance of the draft amendments or alternatives in accordance with national forest planning regulation 36 CFR 219.10(f) (1982 procedures). The USFS will use criteria in Forest Service Manual 1926.5 to make this determination of the significance of draft LRMP amendments.

The following amendments have been drafted by the BLM and the USFS as part of the proposed action in FERC's Draft EIS:

Amendment of the BLM's Coos Bay District, Roseburg District, Medford District, and Klamath Falls Resource Area of the Lakeview District RMPs and the Umpqua National Forest, Rogue River National Forest, and Winema National Forest LMPs

BLM/USFS-1—Applicable BLM RMPs and USFS LMPs would be amended to exempt “certain known sites” within the area of the proposed PCGP Project from the Management Recommendations required by the 2001 “Record of Decision and Standards and Guidelines for Amendments to the Survey and Manage, Protection Buffer, and other Mitigation Measures Standards and Guidelines,” as modified by court order.

Amendment of the BLM Coos Bay District and Roseburg District RMPs

BLM-1—The Coos Bay District and Roseburg District RMPs would be amended to waive the requirements to protect occupied, suitable, and potential habitat for the marbled murrelet, as mapped by the BLM within the proposed PCGP Project area.

Amendments of BLM Roseburg District RMP

BLM-2—The Roseburg District RMP would be amended to exempt the PCGP Project from the requirement to retain habitat in “Known Owl Activity Centers” at three locations.

BLM-3—The Roseburg District RMP would be amended to change the designation of approximately 409 acres from the Matrix land allocation to the Late Successional Reserve (LSR) land allocation in Sections 32 and 34, T. 29 1/2 S., R. 7 W., and Section 1, T. 30 S., R. 7 W., W.M., Oregon.

Amendment of BLM Coos Bay District RMP

BLM-4—The Coos Bay District RMP would be amended to change the designation of approximately 387 acres from the Matrix land allocation to the LSR land allocation in Sections 19 and 29, T. 28 S., R. 10 W., W.M., Oregon.

Amendments of the Rogue River National Forest LMP

RRNF-2—The Rogue River National Forest LMP would be amended to change the Visual Quality Objective (VQO) in the area where the PCGP Project corridor would cross the Big Elk Road at pipeline milepost 161.4 in Section 16, T. 37 S., R. 4 E., W.M., Oregon, from “foreground retention” to “foreground partial retention” and allow more time for amended visual quality objectives to be attained.

RRNF-3—The Rogue River National Forest LMP would be amended to change the VQO in the vicinity where the PCGP Project corridor would cross the Pacific Crest Trail at pipeline milepost 167.84 in Section 32, T. 37 S., R. 5 E., W.M., Oregon, from “foreground partial retention” to “modification” and allow more time for amended VQOs to be attained.

RRNF-4—The Rogue River National Forest LMP would be amended to allow more time to meet the VQO between the PCGP Project corridor mileposts 156.3 to 156.8 and 157.2 to 157.5 in Sections 11 and 12, T. 37 S., R. 3 E., W.M., Oregon. Standards and Guidelines for “middleground partial retention” require that VQOs for a given location be achieved within one year of completion of the project. Approximately 0.8 miles or 9 acres of Middleground Partial Retention VQO visible at distances of 0.75 to 5 miles from State Highway 140 would be affected by this amendment.

RRNF-5—The Rogue River National Forest LMP would be amended to allow the PCGP Project corridor to cross lands subject to the “restricted riparian management strategy” Standards and Guidelines. This would potentially affect approximately 2.5 acres of the PCGP Project corridor associated with one perennial stream crossing of the South Fork of Little Butte Creek at milepost 162.45 in Section 15, T. 37 S., R. 4 E., W.M., Oregon.

RRNF-6—The Rogue River National Forest LMP would be amended to waive limitations on areas affected by detrimental soil conditions from displacement and compaction within the proposed PCGP Project corridor in all affected management areas.

RRNF-7—The Rogue River National Forest LMP would be amended to change the designation of approximately 512 acres from the Matrix land allocation to the LSR land allocation in Section 32, T. 36 S., R. 4 E., W.M., Oregon.

Amendments of the Umpqua National Forest LMP

UNF-1—The Umpqua National Forest LMP would be amended to change the Standards and Guidelines for Fisheries to allow the removal of effective shading vegetation where perennial streams would be crossed by the PCGP Project corridor. This change would potentially affect an estimated three acres of shading vegetation at four perennial stream crossings in the East Fork of Cow Creek from pipeline mileposts 109 to 110 in Sections 16 and 21, T. 32 S., R. 2 W., W.M., Oregon.

UNF-2—The Umpqua National Forest LMP would be amended to change prescriptions C2-II and C2-IV and to allow the PCGP Project corridor to cross Riparian Areas (i.e., Riparian Reserves) and run parallel to the East Fork of Cow Creek for approximately 0.1 mile between milepost 109.68 and 109.78 in Section 21, T. 32 S., R. 2 W., W.M., Oregon. This change would potentially affect approximately one acre of Riparian Reserve along the East Fork of Cow Creek.

UNF-3—The Umpqua National Forest LMP would be amended to waive limitations on the area affected by detrimental soil conditions from displacement and compaction within the proposed PCGP Project corridor. Standards and Guidelines for Soils requires that not more than 20 percent of the project area have detrimental compaction, displacement, or puddling after completion of a project.

UNF-4—The Umpqua National Forest LMP would be amended to change the designation of approximately 588 acres from the Matrix land allocation to the LSR 223 land allocation in Sections 7, 18, and 19, T. 32 S., R. 2 W., and Sections 13 and 24, T. 32 S., R. 3 W., W.M., Oregon.

Amendments of the Winema National Forest LMP

WNF-1—The Winema National Forest LMP would be amended to change the Standards and Guidelines for Management Area 3 (MA-3) to allow for development of the 95-foot-wide PCGP Project corridor in MA-3 from the Forest Boundary in Section 32, T. 37 S., R. 5 E., to the Clover Creek Road corridor in Section 4, T. 38 S, R. 5 E., W.M., Oregon. Standards and Guidelines for MA-3 state that the area is currently an avoidance area for new utility corridors. This amendment would apply to a portion of the proposed PCGP Project corridor that would be approximately 1.5 miles long and occupy approximately 17 acres.

WNF-2—The Winema National Forest LMP would be amended to allow more time to achieve the VQO where the PCGP Project corridor would cross the Dead Indian Memorial Highway at approximately milepost 168.84 in Section 33, T. 37 S., R. 5 E., W.M., Oregon.

WNF-3—The Winema National Forest LMP would be amended to allow more time to meet the VQO for Scenic Management, Foreground Partial Retention, where the PCGP Project corridor would be adjacent to the Clover Creek Road from approximately milepost 170 to 175 in Sections 2, 3, 4, 11 and 12, T. 38 S., R. 5 E., and Sections 7, 17 and 18, T. 38 S., R. 6 E., W.M., Oregon. This amendment would be applicable to approximately 50 acres of the proposed PCGP Project corridor.

WNF-4—The Winema National Forest LMP would be amended to waive restrictions on detrimental soil conditions from displacement and compaction within the proposed PCGP Project corridor in all affected management areas.

WNF-5—The Winema National Forest LMP would be amended to waive restrictions on detrimental soil conditions from displacement and compaction within the proposed PCGP Project corridor within Management Area 8, Riparian Area (MA-8). This amendment would be applicable to approximately 0.5 mile or an estimated 9.6 acres of MA-8. Standards and Guidelines for Soil and Water, MA-8 require that not more than 10 percent of the total riparian zone in an activity area be in a detrimental soil condition upon the completion of a project.

Copies of the Jordan Cove Energy and PCGP Projects Draft EIS are available for inspection in the BLM's Coos Bay, Roseburg, and Medford District offices; the Klamath Falls Resource Area of the Lakeview District office; and at the offices of the Forest Supervisors for the Rogue River, Umpqua, and Winema National Forests.

Consistent with BLM land use planning regulations at 43 CFR 1610.2(f)(3), the BLM is requesting comments on the draft amendments of BLM RMPs that are necessary to allow for the PCGP Project in the Coos Bay, Roseburg, and Medford Districts and Klamath Falls Resource Area of the Lakeview District. The BLM is also requesting public comments on the issuance of a right-of-way grant that would allow the PCGP to to be constructed on Federal lands managed by the BLM, USFS, and Reclamation. The USFS is requesting public comments on the draft amendments of USFS LMPs to allow for the PCGP Project on the Rogue River, Umpqua, and Winema National Forests. Reclamation is not offering plan amendments and is not requesting specific comments. All comments must be submitted to the FERC, the Lead Federal Agency. You may submit comments in writing at any public meeting, or you may submit comments to the FERC using one of the methods listed in the “ADDRESSES” section above. As noted above, the comment period on the Draft EIS has already commenced following publication of the NOA by EPA.

Refer to Dockets CP13-483-000 [Jordan Cove Energy Project] and/or CP13-492-000 [Pacific Connector Gas Pipeline Project] in all correspondence to ensure that your comments are correctly filed in the record for the Jordan Cove Energy and PCGP Projects.

The FERC offers a free service called e-subscription that allows you to keep track of all formal issuances and submittals in specific dockets. This can reduce the amount of time you spend researching proceedings by automatically providing you with notification of these filings, document summaries, and direct links to the documents at: http://www.ferc.gov/docs-filing/esubscription.asp.

Before including your address, phone number, email address, or other personal identifying information in your comments, you should be aware that the entire text of your comments—including your personal identifying information—would be publicly available through the FERC eLibrary system, if you file your comments with the Secretary of the Commission.

Authority: 40 CFR 1506.6, 40 CFR 1506.10, 43 CFR 1610.2.

Jerome E. Perez,
State Director, Oregon/Washington.
Alice Carlton,
Forest Supervisor, Umpqua National Forest.

[FR Doc. 2014-29654 Filed 12-17-14; 8:45 am]

BILLING CODE 4310-33-P